DEPARTMENT OF STATE

[Public Notice: 10188]

In the Matter of the Amendment of the Designation of Abdallah Azzam Brigades (and Other Aliases) as a Foreign Terrorist Organization Pursuant to Section 219 of the Immigration and Nationality Act, as Amended

Based upon a review of the Administrative Record assembled pursuant to Section 219 of the Immigration and Nationality Act, as amended (8 U.S.C. 1189) (“INA”), and in consultation with the Attorney General and the Secretary of the Treasury, I have concluded that there is a sufficient factual basis to find that the following are aliases of Abdallah Azzam Brigades (and other aliases): Marwan Hadid Brigades, also known as Marwan Hadid Brigade.

Therefore, pursuant to Section 219(b) of the INA, as amended (8 U.S.C. 1189(b)), I hereby amend the designation of Abdallah Azzam Brigades as a foreign terrorist organization to include the following new aliases: Marwan Hadid Brigades, also known as Marwan Hadid Brigade.

This determination shall be published in the Federal Register.

Dated: September 27, 2017.
Rex W. Tillerson,
Secretary of State.

[FR Doc. 2017-23789 Filed 11-1-17; 8:45 am]

BILLING CODE 4710-AD-P